DEPARTMENT OF JUSTICE

Federal Bureau of Investigation

Notice of Meeting

AGENCY: Department of Justice, Federal Bureau of Investigation, National Domestic Preparedness Office (NDPO), State and Local Advisory Group to the NDPO.

ACTION: Committee Management; Notice of Meeting.

Authority: Title 5, United States Code, Appendix 2.

SUMMARY: The State and Local Advisory Group to the NDPO will meet on September 26-27, 2000, at the Radisson Hotel—Old Town, 901 N. Fairfax Street, Alexandria, Virginia. The meeting will start at 9:00 a.m. and end at approximately 5:00 p.m. on each day. Agenda items to be addressed include: Federal ethics and conflict of interest laws as they relate to federal advisory committees; A review of the Advisory Group charter and a discussion of the proposed bylaws; An overview of current NDPO initiatives; Roundtable discussion regarding state and local domestic preparedness priorities, the recommended priorities of federal preparedness programs to assist the state and local agencies, and the nexus between the two; Briefing and discussion on the draft Plan to Support State and Local WMD Preparedness; Briefing and discussion on the Curriculum Review Panel; A review and discussion of the draft NDPO Planning Guide.

This meeting will be open to the public. Any interested person must register five days in advance of the meeting. Registrations will then be accepted on a space available basis. For information on how to register or to receive a copy of the meeting agenda, contact Ms. Allison Dunham, telephone number (202) 324-9037.

Providing Oral or Written Comments at Advisory Group Meetings: Members of the public who wish to make a brief oral presentation at this meeting, must contact Ms. Allison Dunham, in writing, via fax {(202) 324-2224 or Email adunham@leo.gov} no later than noon Eastern time Wednesday, September 20, 2000, in order to have time reserved on the agenda. The notification should contain the requestor's name; corporate designation, consumer affiliation, or government designation; along with a short statement describing the topic to be addressed. In general, for meetings, opportunities for oral comment will usually be limited to no more than five minutes per speaker and no more than thirty minutes total. Written comments (at least 45 copies) received in the NDPO staff office sufficiently prior to a meeting date (usually one week before the meeting), may be mailed to the attention of Mr. Thomas G. Kinnally, Administrator, NDPO. Comments received too close to the meeting date will normally be provided to the Advisory Group at its meeting. Written comments may be provided to the relevant committee or subcommittee up until the time of the meeting.

Responsible FBI Official: Thomas G. Kinnally, Administrator, NDPO.

ADDRESSES: Room 5214, Federal Bureau of Investigation, 935 Pennsylvania Avenue, N.W., Washington, D.C. 20535.

FOR FURTHER INFORMATION CONTACT: Allison R. Dunham, (202) 324-9037.

Dated: September 6, 2000.
Thomas G. Kinnally,
Administrator, NDPO.

[FR Doc. 00-23628 Filed 9-13-00; 8:45 am]

BILLING CODE 4410-02-P